DEPARTMENT OF THE INTERIOR

Fish and Wildlife Service

[FWS-HQ-IA-2017-0079; FF09A30000-189-FXIA16710900000]

Conference of the Parties to the Convention on International Trade in Endangered Species of Wild Fauna and Flora; 18th Regular Meeting; Request for Information and Recommendations on Resolutions, Decisions, and Agenda Items for Consideration

AGENCY: Fish and Wildlife Service, Interior.

ACTION: Notice.

SUMMARY: To implement the Convention on International Trade in Endangered Species of Wild Fauna and Flora (CITES, or the Convention), the Parties to the Convention meet periodically to review which species in international trade should be regulated and other aspects of the implementation of CITES. The 18th regular meeting of the Conference of the Parties to CITES (CoP18) is scheduled to be held in Sri Lanka from May 23, 2019, through June 3, 2019. With this notice, we invite the public to provide us with information and recommendations on resolutions, decisions, and agenda items that the United States might consider submitting for discussion at CoP18. In addition, with this notice we provide preliminary information on how to request approved observer status for nongovernmental organizations that wish to attend the meeting.

DATES: We will consider all information and comments we receive on or before May 11, 2018.

ADDRESSES: You may submit comments by one of the following methods:

• Internet: http://www.regulations.gov. Follow the instructions for submitting comments on Docket No. FWS-HQ-IA-2017-0079.

• Hard copy: Submit by U.S. mail or hand-delivery to Public Comments Processing; Attn: Docket No. FWS-HQ-IA-2017-0079; U.S. Fish and Wildlife Service Headquarters, MS: BPHC; 5275 Leesburg Pike; Falls Church, VA 22041-3803.

FOR FURTHER INFORMATION CONTACT: For information pertaining to resolutions, decisions, and agenda items, contact Laura Noguchi, Chief, Wildlife Trade and Conservation Branch, Division of Management Authority, at 703-358-2095 (phone); or managementauthority@fws.gov (email). If you use a telecommunications device for the deaf (TDD), call the Federal Relay Service (FRS) at 800-877-8339. For information pertaining to species proposals, contact Rosemarie Gnam, Chief, Division of Scientific Authority, 703-358-1708 (phone); or scientificauthority@fws.gov (email).

SUPPLEMENTARY INFORMATION:

Background

The Convention on International Trade in Endangered Species of Wild Fauna and Flora (CITES, or the Convention) is an international treaty designed to regulate international trade in certain animal and plant species that are now, or potentially may become, threatened with extinction. These species are included in the Appendices to CITES, which are available on the CITES Secretariat's website at http://www.cites.org/eng/disc/species.php.

Currently there are 183 Parties to CITES—182 countries, including the United States, and one regional economic integration organization, the European Union. The Convention calls for regular meetings of the Conference of the Parties (Conference, or CoP) every 2-3 years, unless the Conference decides otherwise. At these meetings, the Parties review the implementation of CITES, make provisions enabling the CITES Secretariat in Switzerland to carry out its functions, consider amendments to the lists of species in Appendices I and II, consider reports presented by the Secretariat, and make recommendations for the improved effectiveness of CITES. Any Party to CITES may propose amendments to Appendices I and II, resolutions, decisions, and agenda items for consideration by all the Parties at the meeting.

This is our second in a series of Federal Register notices that, together with a public meeting (time and place to be announced in a future Federal Register notice), provide you with an opportunity to participate in the development of the U.S. submissions to, and negotiating positions for, the 18th regular meeting of the Conference of the Parties to CITES (CoP18), which is scheduled to be held in Sri Lanka from May 23, 2019, through June 3, 2019. We published our first CoP18-related Federal Register notice on January 23, 2018 (83 FR 3179). In that notice, we requested information and recommendations on species proposals for the United States to consider submitting for discussion at CoP18, and we also described the U.S. approach to preparations for CoP18. We intend to announce tentative species proposals that the United States is considering submitting for CoP18 and solicit further information and comments on them when we publish our third CoP18-related Federal Register notice. You may obtain information on species proposals by contacting the Division of Scientific Authority at the telephone number or email address provided in FOR FURTHER INFORMATION CONTACT. Our regulations governing this public process are found at 50 CFR 23.87.

Request for Information and Recommendations on Resolutions, Decisions, and Agenda Items

Although we have not yet received formal notice of the provisional agenda for CoP18, we invite your input on possible agenda items that the United States could recommend for inclusion, or on possible resolutions and decisions of the Conference of the Parties that the United States could submit for consideration. Copies of the agenda and the results of the most recent, or 17th, meeting of the Conference of the Parties (CoP17) in Johannesburg, South Africa, which took place from September 24, 2016, through October 5, 2016, as well as copies of all resolutions and decisions of the Conference of the Parties currently in effect, are available on the CITES Secretariat's website (http://www.cites.org/).

Observers

Article XI, paragraph 7 of CITES provides: “Any body or agency technically qualified in protection, conservation or management of wild fauna and flora, in the following categories, which has informed the Secretariat of its desire to be represented at meetings of the Conference by observers, shall be admitted unless at least one-third of the Parties present object:

(a) International agencies or bodies, either governmental or nongovernmental, and national governmental agencies and bodies; and

(b) national nongovernmental agencies or bodies which have been approved for this purpose by the State in which they are located.

Once admitted, these observers shall have the right to participate but not to vote.”

National agencies or organizations within the United States must obtain our approval to participate in CoP18, whereas international agencies or organizations must obtain approval directly from the CITES Secretariat. We will publish information in a future Federal Register notice on how to request approved observer status. A factsheet on the process is posted on our website, at https://www.fws.gov/international/pdf/factsheet-become-observer-to-cites-meeting.pdf.

Future Actions

As stated above, the next regular meeting of the Conference of the Parties (CoP18) is scheduled to be held in Sri Lanka from May 23, 2019, through June 3, 2019. The United States must submit any proposals to amend Appendix I or II, or any draft resolutions, decisions, or agenda items for discussion at CoP18, to the CITES Secretariat no later than 150 days (tentatively December 24, 2018) prior to the start of the meeting. In order to meet this deadline and to prepare for CoP18, we have developed a tentative U.S. schedule. Approximately 12 months prior to CoP18, we plan to publish our next CoP18-related Federal Register notice announcing tentative species proposals that the United States is considering submitting for CoP18 and soliciting further information and comments on them. Following publication of that notice and approximately 10 months prior to CoP18, we plan to publish a Federal Register notice announcing draft resolutions, draft decisions, and agenda items the United States is considering submitting for CoP18 and soliciting further information and comments on them. Approximately 5 months prior to CoP18, we will post on our website an announcement of the species proposals, draft resolutions, draft decisions, and agenda items submitted by the United States to the CITES Secretariat for consideration at CoP18.

Through a series of additional notices and website postings in advance of CoP18, we will inform you about preliminary negotiating positions on resolutions, decisions, agenda items, and amendments to the Appendices proposed by other Parties for consideration at CoP18, and about how to obtain observer status from us. We will also publish an announcement of a public meeting tentatively to be held approximately 3 months prior to CoP18. That meeting will enable us to receive public input on our positions regarding CoP18 issues. The procedures for developing U.S. documents and negotiating positions for a meeting of the Conference of the Parties to CITES are outlined in 50 CFR 23.87. As noted in paragraph (c) of that section, we may modify or suspend the procedures outlined there if they would interfere with the timely or appropriate development of documents for submission to the CoP and of U.S. negotiating positions.

Public Availability of Comments

Before including your address, phone number, email address, or other personal identifying information in your comment, you should be aware that your entire comment—including your personal identifying information—may be made publicly available at any time. If you submit a hardcopy comment that includes personal identifying information, you may request at the top of your document that we withhold this information from public review; however, we cannot guarantee that we will be able to do so.

Author

The primary author of this notice is Clifton A. Horton, Division of Management Authority, U.S. Fish and Wildlife Service.

Authority

The authority for this action is the Endangered Species Act of 1973, as amended (16 U.S.C. 1531 et seq.).

Gregory J. Sheehan,
Principal Deputy Director.

[FR Doc. 2018-04919 Filed 3-9-18; 8:45 am]

BILLING CODE 4333-15-P